DEPARTMENT OF ENERGY

Federal Energy Regulatory Commission

Combined Notice of Filings #1

Take notice that the Commission received the following electric corporate filings:

Docket Numbers: EC19-103-000.

Applicants: Newmount Nevada Energy Investment LLC.

Description: Supplement (Amended Exhibit I) to July 13, 2019 Supplement to Application for Authorization Under Section 203 of the Federal Power Act, et al. of Newmount Nevada Energy Investment LLC.

Filed Date: 7/23/19.

Accession Number: 20190723-5107.

Comments Due: 5 p.m. ET 8/2/19.

Docket Numbers: EC19-115-000.

Applicants: Public Service Company of Colorado, SWG Colorado, LLC.

Description: Joint Application for Authorization Under Section 203 of the Federal Power Act, et al. of Public Service Company of Colorado, et al.

Filed Date: 7/23/19.

Accession Number: 20190723-5174.

Comments Due: 5 p.m. ET 8/13/19.

Take notice that the Commission received the following electric corporate filings:

Docket Numbers: ER18-2370-002.

Applicants: Lackawanna Energy Center LLC.

Description: Compliance filing: Compliance Filing of Reactive Power Rate Schedule in ER18-2370 and EL19-7 to be effective 10/1/2018.

Filed Date: 7/24/19.

Accession Number: 20190724-5111.

Comments Due: 5 p.m. ET 8/14/19.

Docket Numbers: ER19-266-002.

Applicants: Invenergy Nelson LLC.

Description: Compliance filing: Compliance Filing of Reactive Power Rate Schedule to be effective 12/1/2018.

Filed Date: 7/24/19.

Accession Number: 20190724-5112.

Comments Due: 5 p.m. ET 8/14/19.

Docket Numbers: ER19-1507-004.

Applicants: Duke Energy Carolinas, LLC, Duke Energy Progress, LLC, Duke Energy Florida, LLC.

Description: Compliance filing: Joint OATT Compliance Filing for Order No. 845 to be effective 5/22/2019.

Filed Date: 7/24/19.

Accession Number: 20190724-5084.

Comments Due: 5 p.m. ET 8/14/19.

Docket Numbers: ER19-2446-000.

Applicants: Midcontinent Independent System Operator, Inc.

Description: § 205(d) Rate Filing: 2019-07-24_SA 3332 Southern Indiana Gas & Electric-OSER (J783) to be effective 7/10/2019.

Filed Date: 7/24/19.

Accession Number: 20190724-5013.

Comments Due: 5 p.m. ET 8/14/19.

Docket Numbers: ER19-2447-000.

Applicants: PJM Interconnection, L.L.C.

Description: Tariff Cancellation: Notice of Cancellation of WMPA/SA No. 4252, Queue No. W2-094 to be effective 5/6/2019.

Filed Date: 7/24/19.

Accession Number: 20190724-5049.

Comments Due: 5 p.m. ET 8/14/19.

Docket Numbers: ER19-2448-000.

Applicants: Midcontinent Independent System Operator, Inc., MidAmerican Energy Company.

Description: § 205(d) Rate Filing: 2019-07-24_SA 3334 MidAmerican-RPGI WDS (La Porte) to be effective9/1/2019.

Filed Date: 7/24/19.

Accession Number: 20190724-5054.

Comments Due: 5 p.m. ET 8/14/19.

Docket Numbers: ER19-2449-000.

Applicants: PJM Interconnection, L.L.C.

Description: § 205(d) Rate Filing: First Rev. ISA & ICSA, SA Nos. 4904 & 4952; Queue No. AA2-119/AC1-055/AD2-192 to be effective 6/25/2019.

Filed Date: 7/24/19.

Accession Number: 20190724-5087.

Comments Due: 5 p.m. ET 8/14/19.

Docket Numbers: ER19-2450-000.

Applicants: Crystal Lake Wind, LLC.

Description: Tariff Cancellation: Notice of Cancellation of Crystal Lake Wind, LLC to be effective 7/25/2019.

Filed Date: 7/24/19.

Accession Number: 20190724-5113.

Comments Due: 5 p.m. ET 8/14/19.

Docket Numbers: ER19-2451-000.

Applicants: AEP Texas Inc.

Description: § 205(d) Rate Filing: AEPTX-Cranell Wind Farm GIA 1st Amend and Restated to be effective7/12/2019.

Filed Date: 7/24/19.

Accession Number: 20190724-5114.

Comments Due: 5 p.m. ET 8/14/19.

Docket Numbers: ER19-2452-000.

Applicants: Alabama Power Company.

Description: § 205(d) Rate Filing: Americus Solar LGIA Filing to be effective 7/10/2019.

Filed Date: 7/24/19.

Accession Number: 20190724-5118.

Comments Due: 5 p.m. ET 8/14/19.

Take notice that the Commission received the following electric securities filings:

Docket Numbers: ES19-38-000; ES19-39-000; ES19-40-000; ES19-41-000; ES19-42-000; ES19-43-000; ES19-44-000.

Applicants: AEP Texas Inc., Appalachian Power Company, Indiana Michigan Power Company, Kentucky Power Company, Public Service Company of Oklahoma, Southwestern Electric Power Company, Wheeling Power Company.

Description: Application under Section 204 of the Federal Power Act for Authorization to Issue Securities of AEP Texas Inc., et al.

Filed Date: 7/24/19.

Accession Number: 20190724-5086.

Comments Due: 5 p.m. ET 8/14/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2019.
Nathaniel J. Davis, Sr.,
Deputy Secretary.

[FR Doc. 2019-16116 Filed 7-29-19; 8:45 am]

BILLING CODE 6717-01-P